DEPARTMENT OF THE INTERIOR

Bureau of Land Management

[LLWY922000-L13200000-EL0000, WYW183863]

Notice of Invitation To Participate; Coal Exploration License; Application WYW183863, Wyoming

AGENCY: Bureau of Land Management, Interior.

ACTION: Notice.

SUMMARY: Pursuant to the Mineral Leasing Act of 1920, as amended by the Federal Coal Leasing Amendments Act of 1976, and to Bureau of Land Management (BLM) regulations, all interested parties are hereby invited to participate with Black Butte Coal Company on a pro rata cost-sharing basis, in a program for the exploration of coal deposits owned by the United States of America in Sweetwater County, Wyoming.

DATES: This notice of invitation was published in the Rock Springs Rocket-Miner once each week for 2 consecutive weeks beginning the week of November 10, 2014. Any party electing to participate in this exploration program must send written notice to both the BLM and Black Butte Coal Company, as provided in the ADDRESSES section below, no later than February 11, 2015. Such written notice must refer to serial number WYW183863.

ADDRESSES: Copies of the exploration plan submitted by Black Butte Coal Company (serialized under number WYW183863) are available for review during normal business hours in the following offices: BLM, Wyoming State Office, 5353 Yellowstone Road, Cheyenne, Wyoming 82009; and, BLM, Rock Springs Field Office, 280 Highway 191 North, Rock Springs, Wyoming 82901. Any party electing to participate in this exploration shall send written notice to the following addresses: Black Butte Coal Company, c/o Ambre Energy North America, Inc., Attn: Jeremey Kerly, 170 South Main St., Ste. 700, Salt Lake City, UT 84101 and the BLM Wyoming State Office, Branch of Solid Minerals, Attn: Jackie Madson, P.O. Box 1828, Cheyenne, WY 82003.

FOR FURTHER INFORMATION CONTACT: Jackie Madson, Land Law Examiner, at 307-775-6258. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Black Butte Coal Company has applied to the BLM for a coal exploration license on public lands in the Salt Wells area near the existing Black Butte Coal Mine located near Point of Rocks, Wyoming. The purpose of the exploration program is to obtain geologic knowledge of the coal underlying the exploration area for the purpose of assessing the coal resources there. The BLM regulations at 43 CFR 3410 require the publication of an invitation to participate in the coal exploration in the Federal Register. The Federal coal resources included in the exploration license application are located in the following described lands in Wyoming:

Sixth Principal Meridian, Wyoming

T. 15 N., R. 102 W.,

Sec. 4.

T. 16 N., R. 101 W.,

Sec. 2, 4, 6, 8, 10, 18, 20, and 30.

T. 16 N., R. 102 W.,

Sec. 2, 10, 12, 14, 22, 24, 26, and 28;

Sec. 34, NE1/4, N1/2NW1/4, SE1/4NW1/4, and S1/2.

T. 17 N., R. 100 W.,

Sec. 4, 8, 18, and 30.

T. 17 N., R. 101 W.,

Sec. 2, lots 1 and 2, S1/2NE1/4, SE1/4NW1/4, and S1/2;

Sec. 8;

Sec. 10, E1/2 and S1/2SW1/4;

Sec. 12, 14, 18, 20, 22, 24, 26, 28, 30, 32, and 34.

T. 17 N., R. 102 W.,

Sec. 24 and 26.

The areas described aggregate 23,232.28 acres.

The proposed exploration program is fully described and will be conducted pursuant to an exploration plan to be approved by the BLM. The plan may be modified to accommodate the legitimate exploration needs of persons seeking to participate.

Authority: 43 CFR 3410.2-1(c)(1)

Mary Jo Rugwell,
Associate State Director.

[FR Doc. 2015-00238 Filed 1-9-15; 8:45 am]

BILLING CODE 4310-22-P